DEPARTMENT OF JUSTICE

Notice of Lodging of Consent Decree Under the Clean Air Act, the Clean Water Act, RCRA, and EPCRA

Under 28 CFR 50.7, notice is hereby given that on December 1, 2008, a proposed Consent Decree in the United States v. Shintech Incorporated and K-Bin Inc., Civil Action No. 4:08-cv-3519, was lodged with the United States District Court for the Southern District of Texas, Houston Division.

In its Complaint, the United States alleged that Shintech Incorporated and/or K-Bin Inc. (“Defendants”), at their facilities in Freeport, Texas, violated the provisions of the Clean Air Act that regulate industrial refrigerants to protect the stratospheric ozone layer; the hazardous waste management provisions of the Resource Conservation and Recovery Act (“RCRA”); the permit requirement of the Clean Water Act; and the provisions of the Emergency Planning and Community Right-to-Know Act (“EPCRA”) that require annual reports on materials present at regulated facilities.

Under the Consent Decree, Defendants will (1) pay a civil penalty of $2.585 million; (2) spend an estimated $4.8 million on injunctive relief; and (3) spend at least $4.7 million on three supplemental environmental projects (“SEPs”).

To address the Clean Air Act violations, Defendants will replace six refrigeration equipment with units that use non-ozone depleting refrigerants; conduct training programs for employees that service, maintain, or repair refrigeration equipment; and conduct third-party audits of its facilities. To ensure compliance with RCRA, Shintech has agreed to close two hazardous waste management units and install an aboveground tank system to prevent the storage or disposal of hazardous waste on land. Shintech has already corrected the Clean Water Act and EPCRA violations.

All three SEPs will be performed by Shintech. Two are designed to reduce air pollution and the third is designed to improve water quality. First, Shintech has agreed, for a period of at least two years, to implement and manage a recycling program in the City of Houston that will collect, recycle, and dispose of residential, refrigerant-containing appliances containing ozone depleting substances. Second, Shintech will upgrade five of its polyvinyl chloride (“PVC”) slurry strippers to reduce its emissions of PVC an estimated 10,000 pounds per year. Third, Shintech will add at least 300 acres of forest and wetlands to the Austin's Woods preserve (also called the Colombia Bottomlands area), which will be managed by the U.S. Fish and Wildlife Service.

The United States Department of Justice will receive for a period of thirty (30) days, from the date of this publication, comments relating to the Consent Decree. Comments should be addressed to the Assistant Attorney General, Environment and Natural Resources Division, P.O. Box 7611, U.S. Department of Justice, Washington, DC 20044-7611, or submitted via e-mail to pubcomment-ees.enrd@usdoj.gov, and should refer to the United States v. Shintech Incorporated and K-Bin Inc., DOJ case number 90-5-2-1-08745/1.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting from the Consent Decree Library a full copy of the Consent Decree including all attachments, please enclose a check in the amount of $18.25 (25 cents per page reproduction cost) payable to the U.S. Treasury.

Maureen M. Katz,
Assistant Section Chief, Environmental Enforcement Section, Environment and Natural Resources Division.

[FR Doc. E8-29958 Filed 12-17-08; 8:45 am]

BILLING CODE 4410-15-P